SURFACE TRANSPORTATION BOARD

[Docket No. AB 1239 (Sub-No. 3X)]

City of Tacoma, Department of Public Utilities, d/b/a Tacoma Rail—Discontinuance of Service Exemption—in Pierce County, Wash.

On March 8, 2023, the City of Tacoma, Wash., Department of Public Utilities d/b/a Tacoma Rail (the City) filed a petition with the Surface Transportation Board (the Board) under 49 U.S.C. 10502 for exemption from the prior approval requirements of 49 U.S.C. 10903 to discontinue common carrier service over approximately 3.5 miles of rail line extending from milepost 2.11 at East C Street (USDOT Grade Crossing Inventory Number 396640U) to milepost 5.61 at McKinley Avenue (USDOT Grade Crossing Inventory Number No. 396659L), in the City, Pierce County (the Line). The Line traverses U.S. Postal Service Zip Codes 98421, 98404, and 98418.

According to the City, the Line has moved only four local carloads in the past seven years—one carload in April 2021 and three carloads in 2016. The City states that it would not expect carload volumes to or from the sole customer on the Line, Tacoma Steel, to increase significantly if the Line were to remain active. According to the City, it has advised Tacoma Steel of its plan to cease operations on the Line and the City expects that Tacoma Steel will not object to this petition for discontinuance authority. The City also states that no overhead traffic currently exists on the Line, and that, if such traffic did exist, it could be handled over other through routes.

The City states that, to the best of its information and belief, the Line does not contain any federally granted rights-of-way and that it will promptly make available to those requesting it any documentation in its possession relevant to the foregoing statement.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by June 26, 2023.

Because this is a discontinuance proceeding and not an abandonment, interim trail use/rail banking and public use conditions are not appropriate. Because there will be environmental review during any subsequent abandonment, this discontinuance does not require an environmental review. See 49 CFR 1105.6(c)(5), 1105.8(b).

Any offer of financial assistance (OFA) to subsidize continued rail service under 49 CFR 1152.27(b)(2) will be due no later than July 6, 2023, or 10 days after service of a decision granting the petition for exemption, whichever occurs sooner.¹ Persons interested in submitting an OFA must first file a formal expression of intent to file an offer by April 7, 2023, indicating the intent to file an OFA for subsidy and demonstrating that they are preliminarily financially responsible. See 49 CFR 1152.27(c)(1)(i).

¹ The filing fee for OFAs can be found at 49 CFR 1002.2(f)(25).

All filings in response to this notice must refer to Docket No. AB 1239 (Sub-No. 3X) and must be filed with the Surface Transportation Board either via e-filing on the Board's website or in writing addressed to 395 E Street SW, Washington, DC 20423-0001. In addition, a copy of each pleading must be served on the City's representative, Robert A. Wimbish, Fletcher & Sippel LLC, 29 North Wacker Drive, Suite 800, Chicago, IL 60606-3208. Replies to the petition are due by April 17, 2023.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0294. If you require an accommodation under the Americans with Disabilities Act, please call (202) 245-0245.

Board decisions and notices are available at www.stb.gov.

Decided: March 21, 2023.
By the Board, Mai T. Dinh, Director, Office of Proceedings.
Raina White,
Clearance Clerk.

[FR Doc. 2023-06361 Filed 3-27-23; 8:45 am]

BILLING CODE 4915-01-P